DEPARTMENT OF HEALTH AND HUMAN SERVICES

Substance Abuse and Mental Health Services Administration

Center for Substance Abuse Treatment; Notice of Meeting

Pursuant to Public Law 92-463, notice is hereby given of the meeting of the Center for Substance Abuse Treatment (CSAT) National Advisory Council in September 2006.

The meeting will be open and will include discussion of the Center's policy issues and current administrative, legislative, and program developments.

Attendance by the public will be limited to space available. Public comments are welcome. Please communicate with the CSAT Council Executive Secretary, Ms. Cynthia Graham (see contact information below), to make arrangements to comment or to request special accommodations for persons with disabilities.

Substantive program information, a summary of the meeting, and a roster of Council members may be obtained after the meeting by contacting Ms. Graham or by accessing the SAMHSA Council Web site at http://www.samhsa.gov. The transcript for the meeting will also be available on the SAMHSA Council Web site within 3 weeks after the meeting.

Committee Name: Substance Abuse and Mental Health Services Administration, Center for Substance Abuse Treatment National Advisory Council.

Dates/Time: Open: September 20—9 a.m.-5 p.m. Open: September 21—9 a.m.-1 p.m.

Place: 1 Choke Cherry Road, Sugar Loaf and Seneca Conference Rooms, Rockville, Maryland 20857.

Contact: Ms. Cynthia Graham, M.S., Executive Secretary, SAMHSA/CSAT National Advisory Council, 1 Choke Cherry Road, Room 5-1036,Rockville, MD 20857. Telephone: (240) 276-1692. FAX: (240) 276-1690. E-mail: cynthia.graham@samhsa.hhs.gov.

Dated: August 31, 2006.
Toian Vaughn,
Committee Management Officer, Substance Abuse and Mental Health, Services Administration.

[FR Doc. E6-14809 Filed 9-6-06; 8:45 am]

BILLING CODE 4162-20-P